DEPARTMENT OF HOMELAND SECURITY

Coast Guard

33 CFR Part 100

[Docket No. USCG-2020-0066]

Special Local Regulations; Marine Events Within the Fifth Coast Guard District; Withdrawal

AGENCY: Coast Guard, DHS.

ACTION: Notice of proposed rulemaking; withdrawal.

SUMMARY: The Coast Guard is withdrawing its proposed rule concerning amendments to the regattas and marine parades regulations. The rulemaking was initiated to establish a special local regulations during the “Cambridge Classic Power Boat Regatta,” a marine event to be held on certain navigable waters of the Choptank River at Cambridge, MD on May 16, 2020, and May 17, 2020. The proposed rule is being withdrawn because it is no longer necessary. The event sponsor has cancelled the power boat races.

DATES: The Coast Guard is withdrawing the proposed rule published March 16, 2020 (85 FR 14837) as of May 13, 2020.

ADDRESSES: To view the docket for this withdrawn rulemaking, go to https://www.regulations.gov, type USCG-2020-0066 in the “SEARCH” box and click “SEARCH.” Click on Open Docket Folder on the line associated with this rule.

FOR FURTHER INFORMATION CONTACT: If you have questions about this notice, call or email Mr. Ron Houck, Sector Maryland-National Capital Region Waterways Management Division, U.S. Coast Guard; telephone 410-576- 2674, email Ronald.L.Houck@uscg.mil.

SUPPLEMENTARY INFORMATION:

Background

On March 16, 2020, we published a notice of proposed rulemaking entitled “Special Local Regulations; Marine Events within the Fifth Coast Guard District” in the Federal Register (85 FR 14837). The rulemaking concerned the Coast Guard's proposal to establish temporary special local regulations for certain navigable waters of the Choptank River at Cambridge, MD, effective from 9 a.m. on May 16, 2020, through 6:30 p.m. on May 17, 2020. This action was necessary to provide for the safety of life on these waters during a high-speed power boat racing event. This rulemaking would have prohibited persons and vessels from entering the regulated area unless authorized by the Captain of the Port Maryland-National Capital Region or the Coast Guard Patrol Commander.

Withdrawal

The proposed rule is being withdrawn due to a regulated area no longer being necessary following a cancellation of the power boat races by the event sponsor.

Authority

We issue this notice of withdrawal under the authority of 46 U.S.C. 70034.

Dated: April 23, 2020.
Joseph B. Loring,
Captain, U.S. Coast Guard, Captain of the Port Maryland-National Capital Region.

[FR Doc. 2020-09221 Filed 5-12-20; 8:45 am]

BILLING CODE 9110-04-P